DEPARTMENT OF JUSTICE

Notice of Lodging of Consent Decree Under the Resource Conservation and Recovery Act and Clean Air Act

Notice is hereby given that on March 19, 2012, a Consent Decree in U.S. v. Government of the Virgin Islands, et al., Civil Action No. 3:10-cv-48 was lodged with the United States District Court for the District of the Virgin Islands.

In this action the United States sought, among other things, injunctive relief and civil penalties for the failure by the Government of the Virgin Islands (“GVI”) and the Virgin Islands Waste Management Authority (“WMA”) to operate the Bovoni Landfill on St. Thomas in compliance with the Resource Conservation and Recovery Act (“RCRA”) and the Clean Air Act (“CAA”). The proposed Consent Decree provides for the GVI and WMA to: (a) Operate and maintain the landfill in accordance with RCRA; (b) upgrade an existing CAA-required landfill gas collection and control system and operate and maintain the system; (c) install and operate a leachate collection system; (d) construct and operate a storm water runoff collection system; (e) remove and dispose of scrap tires adjacent to the landfill; (d) implement phased closure of the landfill beginning in 2014; (f) implement a waste diversion/recycling program; and (g) pay a civil penalty of $50,000.

The Department of Justice will receive comments relating to the Consent Decree for a period of 30 days from the date of this publication. Comments should be addressed to the Assistant Attorney General, Environment and Natural Resources Division, and either emailed to pubcomment-ees.enrd@usdoj.gov or mailed to P.O. Box 7611, U.S. Department of Justice, Washington, DC 20044-7611, and should refer to U.S. v. Government of the Virgin Islands, et al., D.J. Ref. 90-5-2-1-08776. Commenters may request that a public meeting be held in the affected area, in accordance with Section 7003(d) of RCRA, 42 U.S.C. 6973(d). If a public meeting is requested, information concerning the time and place of the meeting will be provided in advance in the local media.

During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to “Consent Decree Copy” (eescdcopy.enrd@usdoj.gov), fax number (202) 514-0097, phone confirmation number (202) 514-5271. If requesting a copy from the Consent Decree Library by mail, please enclose a check in the amount of $11.75 (25 cents per page reproduction cost) payable to the U.S. Treasury or, if requesting by email or fax, forward a check in that amount to the Consent Decree Library at the address given above.

Ronald G. Gluck,
Assistant Chief, Environmental Enforcement Section, Environment and Natural Resources Division.

[FR Doc. 2012-7277 Filed 3-26-12; 8:45 am]

BILLING CODE 4410-15-P